NUCLEAR REGULATORY COMMISSION

[Docket No. NRC-2013-0131]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on July 16, 2013 (78 FR 42555).

1. Type of submission, new, revision, or extension: Extension.

2. The title of the information collection: 10 CFR Part 52, “Licenses, Certifications, and Approvals for Nuclear Power Plants.”

3. Current OMB approval number: 3150-0151.

4. The form number if applicable: N/A.

5. How often the collection is required: Whenever applications are made for early site permits (ESPs), standard design certifications (SDCs).

6. Who will be required or asked to report: Designers of commercial nuclear power plants (NPPs), electric power companies, and any person eligible under the Atomic Energy Act to apply for ESPs, SDCs, COLs, or MLs.

7. An estimate of the number of annual responses: 1,050.

8. The estimated number of annual respondents: 20.

9. An estimate of the total number of hours needed annually to complete the requirement or request: 199,169 (194,867 reporting, 4,302 recordkeeping).

10. Abstract: Part 52 of Title 10 of the Code of Federal Regulations (10 CFR), establishes requirements for the granting of ESPs, certifications of standard NPP designs, and licenses which combine in a single license a construction permit, and an operating license with conditions, OLs, MLs, SDAs, and preapplication reviews of site suitability issues. Part 52 also establishes requirements for renewal of those approvals, permits, certifications, and licenses; amendments to them; exemptions from certifications; and variances from ESPs. The NRC uses the information collected to assess the adequacy and suitability of an applicant's site, plant design, construction, training and experience, plans and procedures for the protection of public health and safety. The NRC review of such information and the findings derived from that information form the basis of NRC decisions and actions concerning the issuance, modification or revocation of site permits, DCs, COLs, and MLs for NPPs.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 2, 2013. Comments received after this date will be considered if it is practical to do so, but assurance of consideration cannot be given to comments received after this date.

Chad Whiteman, Desk Officer, Office of Information and Regulatory Affairs (3150-0151), NEOB-10202, Office of Management and Budget, Washington, DC 20503.

Comments can also be emailed to Chad_S_Whiteman@omb.eop.gov or submitted by telephone at 202-395-4718.

The NRC Clearance Officer is Tremaine Donnell, telephone: 301-415-6258.

Dated at Rockville, Maryland, this 24th day of October, 2013.
For the Nuclear Regulatory Commission.
Tremaine Donnell,
NRC Clearance Officer, Office of Information Services.

[FR Doc. 2013-25864 Filed 10-30-13; 8:45 am]

BILLING CODE 7590-01-P